Title 3—

The President

Proclamation 8089 of December 1, 2006

National Pearl Harbor Remembrance Day, 2006

By the President of the United States of America

A Proclamation

Sixty-five years ago, more than 2,400 Americans lost their lives in a surprise attack on Pearl Harbor. On National Pearl Harbor Remembrance Day, we think of those who died on December 7, 1941, and honor all those who sacrificed for our liberty during World War II.

On that peaceful Sunday morning, our country suffered a vicious, unprovoked attack that changed the course of history. Though our Pacific Fleet was nearly destroyed, our citizens were inspired by the great acts of heroism from those who survived and from those who did not. In the days that followed, our grief turned to resolution, and America embarked on a mission to defeat two of the most ruthless regimes the world has ever known. We pledge to always remember the character and sacrifice of the brave individuals at Pearl Harbor. Their selfless service helped deliver a great victory for the cause of freedom and, ultimately, transformed adversaries into the closest of friends.

After the devastating attacks on Pearl Harbor, President Franklin D. Roosevelt declared, “We are going to win the war and we are going to win the peace that follows.” In the 21st century, freedom is again under attack, and young Americans have stepped forward to serve in a global war on terror that will secure our liberty and determine the destiny of millions around the world. Like generations before, we will answer history's call with confidence, confront threats to our way of life, and build a more peaceful world for our children and grandchildren.

The Congress, by Public Law 103-308, as amended, has designated December 7 of each year as “National Pearl Harbor Remembrance Day.”

NOW, THEREFORE, I, GEORGE W. BUSH, President of the United States of America, do hereby proclaim December 7, 2006, as National Pearl Harbor Remembrance Day. I encourage all Americans to observe this solemn occasion with appropriate ceremonies and activities. I urge all Federal agencies, interested organizations, groups, and individuals to fly the flag of the United States at half-staff this December 7 in honor of those who died as a result of their service at Pearl Harbor.

IN WITNESS WHEREOF, I have hereunto set my hand this first day of December, in the year of our Lord two thousand six, and of the Independence of the United States of America the two hundred and thirty-first.

[FR Doc. 06-9609

Filed 12-6-06; 8:45 am]

Billing code 3195-01-P